BROADCASTING BOARD OF GOVERNORS

Notice of Membership of SES Performance Review Board

AGENCY: Broadcasting Board of Governors (BBG).

ACTION: Notice of Membership of SES Performance Review Board.

SUMMARY: Title 5 United States Code, Section 4314, requires that notice of the appointment of an individual to serve as a member of a performance review board (PRB) shall be published in the Federal Register. The following individuals have been appointed to serve as members of the PRB for the Broadcasting Board of Governors: Carol Chan, Director of the Office of U.S. Foreign Disaster Assistance, U.S. Agency for International Development; Gil H. Harden, Assistant Inspector General for Audit, U.S. Department of Agriculture; and Steven Rickrode, Deputy Assistant Inspector General for Audit, U.S. Department of Agriculture.

ADDRESSES: Broadcasting Board of Governors, 330 Independence Ave. SW., Washington, DC 20237.

FOR FURTHER INFORMATION CONTACT: Donna S. Grace, Director, Office of Human Resources, 202-382-7500.

Oanh Tran,
Director of Board Operations, Broadcasting Board of Governors.

[FR Doc. 2014-03707 Filed 2-20-14; 8:45 am]

BILLING CODE 8610-01-P